DEPARTMENT OF COMMERCE

National Oceanic and Atmospheric Administration

Survey To Develop Estimates of Marine-Related Economic Activity in the United States; Proposed Information Collection; Comment Request

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted within 60 days after date of publication in the Federal Register.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Kate Quigley, Office for Coastal Management, 2234 S Hobson Avenue, Charleston, SC 29405-2413; telephone: 843-740-1155; email: kate.quigley@noaa.gov.

SUPPLEMENTARY INFORMATION:

I. Abstract

This is a request for a new collection of information. The objective of the survey is to collect information from manufacturers of technology used in marine related businesses. This data collection is needed for use by the National Oceanic and Atmospheric Administration (NOAA) to describe the group of businesses that comprise the marine technology sector of the economy. NOAA describes the marine economy of the United States and this information is used by decision-makers to make policy decisions. NOAA's mission is to understand and predict changes in climate, weather, oceans, and coasts, to share that knowledge and information with others, and to conserve and manage coastal and marine ecosystems and resources. NOAA is authorized to engage in estimation of the ocean economy under the Coastal Zone Management Act, 16 U.S.C. 1456c.

The information collected from manufacturers of technology used in marine related businesses will include (1) total revenue, (2) the proportion of revenue derived from marine related products and services and (3) information about sales going to consumers, businesses, and government. This information will be used to better understand marine related production of products and services by different manufacturers of technology used in marine related businesses. This information will be used to inform NOAA's understanding about this group of businesses that comprise the marine technology sector as part of NOAA's estimation of the ocean economy.

II. Method of Collection

The primary data collection vehicle will be an internet-based, survey distributed to manufacturers of technology used in marine related businesses. Respondents will volunteer to participate in the survey and choose which questions to answer. Telephone and personal interviews may be employed to supplement and verify survey responses. All responses will be kept confidential in accordance with government confidentiality procedures.

III. Data

OMB Control Number: 0648-xxxx.

Form Number(s): [None].

Type of Review: Regular submission (new information collection).

Affected Public: Business or other for-profit organizations.

Estimated Number of Respondents: 1,000.

Estimated Time per Response: 8 minutes.

Estimated Total Annual Burden Hours: 133 hours.

Estimated Total Annual Cost to Public: $0 in reporting/recordkeeping costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Written public comments must be received on or before June XX, 2019.

Dated: May 13, 2019.
Keelin Kuipers,
Deputy Director, Office for Coastal Management, National Ocean Service, National Oceanic and Atmospheric Administration.

[FR Doc. 2019-10627 Filed 5-21-19; 8:45 am]

BILLING CODE 3510-08-P